DEPARTMENT OF HOMELAND SECURITY

Coast Guard

33 CFR Part 117

[USCG-2008-0908]

Drawbridge Operation Regulation; Long Island, New York Inland Waterway From East Rockaway Inlet to Shinnecock Canal, Hempstead, NY, Maintenance

AGENCY: Coast Guard, DHS.

ACTION: Notice of temporary deviation from regulations.

SUMMARY: The Commander, First Coast Guard District, has issued a temporary deviation from the regulation governing the operation of the Wantagh State Parkway Bridge across Sloop Channel at mile 15.4, at Jones Beach, New York. Under this temporary deviation the bridge may operate on a limited operating schedule for three months to facilitate the completion of bridge construction.

DATES: This deviation is effective from September 5, 2008 through November 30, 2008.

ADDRESSES: Documents indicated in this preamble as being available in the docket are part of docket USCG-2008-0908 and are available online at http://www.regulations.gov. They are also available for inspection or copying two locations: The Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts 02110, between 7 a.m. and 3 p.m., Monday through Friday, except Federal holidays.

FOR FURTHER INFORMATION CONTACT: If you have questions on this deviation, call Judy Leung-Yee, Project Officer, First Coast Guard District, at (212) 668-7165. If you have questions on viewing the docket, call Renee V. Wright, Program Manager, Docket Operations, telephone 202-366-9826.

SUPPLEMENTARY INFORMATION: The Wantagh State Parkway Bridge has a vertical clearance in the closed position of 16 feet at mean high water. The existing drawbridge operation regulations are listed at 33 CFR 117.5.

The New York State Department of Transportation, requested a temporary deviation to facilitate the completion of bridge construction.

The waterway has seasonal recreational vessels and fishing vessels of various sizes.

We contacted the New York Marine Trades Association and Station Jones Beach. No objection to the proposed temporary deviation schedule was received.

Under this temporary deviation, in effect from September 5, 2008 through November 30, 2008, the Wantagh State Parkway Bridge at mile 15.4, across Sloop Channel, shall operate as follows:

From Monday through Friday between 5 p.m. and 6:30 a.m. and at 12 noon, the bridge shall open on signal after at least a 30-minute advance notice is given.

On Saturdays the Bridge shall open on signal after at least a 30-minute advance notice is given between 12:01 a.m. and 6:30 a.m., 10:30 a.m. and 1:30 p.m.

From 4:30 p.m. on Saturdays through 6:30 a.m. on Mondays the bridge shall open on signal every hour on the half-hour after at least a 30-minute advance notice is given.

All other times the bridge need not open for the passage of vessel traffic.

Advance notice may be given by calling (631) 383-6598.

In accordance with 33 CFR 117.35(e), the bridge must return to its regular operating schedule immediately at the end of the designated time period. This deviation from the operating regulations is authorized under 33 CFR 117.35.

Dated: August 31, 2008.
Gary Kassof,
Bridge Program Manager, First Coast Guard District.

[FR Doc. E8-21361 Filed 9-11-08; 8:45 am]

BILLING CODE 4910-15-P